POSTAL SERVICE

Change in Rates of General Applicability for Competitive Products

AGENCY: Postal Service.

ACTION: Notice of a change in rates of general applicability for competitive products.

SUMMARY: This notice sets forth time-limited changes in rates of general applicability for competitive products.

DATES: Effective date: October 5, 2025.

FOR FURTHER INFORMATION CONTACT: Elizabeth Reed, 202-268-3179.

SUPPLEMENTARY INFORMATION: On August 8, 2025, pursuant to their authority under 39 U.S.C. 3632, the Governors of the Postal Service established time-limited price changes for competitive products. The Governors' Decision and the record of proceedings in connection with such decision are reprinted below in accordance with section 3632(b)(2). Mail Classification Schedule language containing the new prices can be found at www.prc.gov.

Matthew W. Tievsky,
Attorney, Ethics and Legal Compliance.

BILLING CODE 7710-12-P

[FR Doc. 2025-15366 Filed 8-12-25; 8:45 am]

BILLING CODE 7710-12-C